DEPARTMENT OF ENERGY

Federal Energy Regulatory Commission

Combined Notice of Filings #2

Take notice that the Commission received the following exempt wholesale generator filings:

Docket Numbers: EG12-54-000.

Applicants: Cimarron Windpower II, LLC.

Description: Notice of Self-Certification as an Exempt Wholesale Generator of Cimarron Windpower II, LLC.

Filed Date: 4/11/12.

Accession Number: 20120411-5261.

Comments Due: 5 p.m. ET 5/2/12.

Docket Numbers: EG12-55-000.

Applicants: Ironwood Windpower, LLC.

Description: Notice of Self-Certification as an Exempt Wholesale Generator of Ironwood Windpower, LLC.

Filed Date: 4/11/12.

Accession Number: 20120411-5262.

Comments Due: 5 p.m. ET 5/2/12.

Take notice that the Commission received the following electric rate filings:

Docket Numbers: ER10-2172-007; ER10-2179-009; ER11-2016-002; ER10-2184-007; ER10-2183-004; ER10-1048-004; ER10-2176-008; ER10-2192-007; ER11-2056-001; ER10-2178-007; ER10-2174-007; ER11-2014-004; ER11-2013-004; ER10-3308-006; ER10-1017-003; ER10-1020-003; ER10-1145-003; ER10-1144-002; ER10-1078-003; ER10-1079-003; ER10-1080-003; ER11-2010-004; ER10-1081-003; ER10-2180-007; ER11-2011-003; ER11-2009-003; ER11-3989-002; ER10-1734-004; ER10-2181-009; ER10-1143-003; ER10-2182-009; ER11-2007-002; ER12-1223-002; ER11-2005-004.

Applicants: Constellation Energy Commodities Group, Inc., R.E. Ginna Nuclear Power Plant, LLC, PECO Energy Company, Baltimore Gas and Electric Company, Wind Capital Holdings, LLC, CR Clearing, LLC, Exelon New England Power Marketing, LP, Exelon Framingham, LLC, Exelon New Boston, LLC, Exelon West Medway, LLC, Exelon Wyman, LLC, Exelon Generation Company, LLC, Exelon Energy Company, Calvert Cliffs Nuclear Power Plant LLC, CER Generation, LLC, Commonwealth Edison Company, Constellation NewEnergy, Inc., CER Generation II, LLC, Constellation Energy Commodities Group Maine, LLC, Handsome Lake Energy, LLC, Nine Mile Point Nuclear Station, LLC, Constellation Mystic Power, LLC, Cassia Gulch Wind Park, Michigan Wind 1, LLC, Harvest Windfarm, LLC, Exelon Wind 4, LLC, Criterion Power Partners, LLC, Cow Branch Wind Power, L.L.C., Michigan Wind 2, LLC, MXenergy Electric Inc., Wildcat Wind, LLC, Tuana Springs Energy, LLC, Constellation Power Source Generation, LLC, Wind Capital Holdings, LLC.

Description: Notification of Change in Status of Baltimore Gas and Electric Company, et al.

Filed Date: 4/11/12.

Accession Number: 20120411-5293.

Comments Due: 5 p.m. ET 5/2/12.

Docket Numbers: ER11-4064-001.

Applicants: Entergy Arkansas, Inc.

Description: Washington Parish IOA Compliance Filing to be effective 9/13/2011.

Filed Date: 4/11/12.

Accession Number: 20120411-5255.

Comments Due: 5 p.m. ET 5/2/12.

Docket Numbers: ER12-1519-000.

Applicants: Florida Power Corporation.

Description: Revised Transmission Loss Factor in Florida Power Corporation OATT to be effective 5/1/2012.

Filed Date: 4/12/12.

Accession Number: 20120412-5014.

Comments Due: 5 p.m. ET 5/3/12.

Docket Numbers: ER12-1520-000.

Applicants: Carolina Power & Light Company.

Description: Revised Transmission Loss Factor in Carolina Power and Light Company OATT to be effective 5/1/2012.

Filed Date: 4/12/12.

Accession Number: 20120412-5015.

Comments Due: 5 p.m. ET 5/3/12.

Docket Numbers: ER12-1521-000.

Applicants: Alta Wind VII, LLC.

Description: Market-Based Rate Tariff to be effective 6/11/2012.

Filed Date: 4/12/12.

Accession Number: 20120412-5021.

Comments Due: 5 p.m. ET 5/3/12.

Docket Numbers: ER12-1522-000.

Applicants: Alta Wind IX, LLC.

Description: Market-Based Rate Tariff to be effective 6/11/2012.

Filed Date: 4/12/12.

Accession Number: 20120412-5022.

Comments Due: 5 p.m. ET 5/3/12.

Docket Numbers: ER12-1523-000.

Applicants: Southern California Edison Company.

Description: Amended SGIA SCE-TDBU SCE-PPD 9415 Kaiser Way Fontana Roof Top Solar Project to be effective 4/13/2012.

Filed Date: 4/12/12.

Accession Number: 20120412-5038.

Comments Due: 5 p.m. ET 5/3/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 12, 2012.
Nathaniel J. Davis, Sr.,
Deputy Secretary.

[FR Doc. 2012-9560 Filed 4-19-12; 8:45 am]

BILLING CODE 6717-01-P